DEPARTMENT OF HOMELAND SECURITY

Transportation Security Administration

[Docket No. TSA-2018-0001]

Surface Transportation Security Advisory Committee (STSAC) Meeting

AGENCY: Transportation Security Administration, DHS.

ACTION: Committee Management; notice of Federal Advisory Committee meeting.

SUMMARY: The Transportation Security Administration (TSA) will hold a meeting of the Surface Transportation Security Advisory Committee (STSAC) to discuss issues listed in the Meeting Agenda section below. This meeting will be open to the public as stated in the Summary section below.

DATES: The Committee will meet on Thursday, July 11, 2019, from 8 a.m. to 1 p.m. This meeting may end early if all business is completed.

ADDRESSES: The meeting will be held at TSA Headquarters, 601 12th Street South, Arlington, VA 22202.

FOR FURTHER INFORMATION CONTACT: Henry Budhram Jr., Surface Transportation Security Advisory Committee, Designated Federal Officer, Transportation Security Administration (TSA-28), 601 South 12th Street, Arlington, VA 20598-6028, STSAC@tsa.dhs.gov, 571-227-4268.

SUPPLEMENTARY INFORMATION:

Summary

Notice of this meeting is given in accordance with the provisions of sec. 1969, Division K, TSA Modernization Act, of the FAA Modernization Act of 2018 (Pub. L. 115-254, 132 Stat. 3186, Oct. 5, 2018). The STSAC will advise, consult with, report to, and make recommendations to the Administrator on surface transportation security matters, including the development, refinement, and implementation of policies, programs, initiatives, rulemakings, and security directives pertaining to surface transportation security. The STSAC will also consider risk-based security approaches in the performance of its duties. Provisions of sec. 1969 stipulate that this Committee is exempt from the Federal Advisory Committee Act (5 U.S.C. App.).

The meeting will be open to the public and will focus on items listed in the Meeting Agenda section below. Members of the public must register in advance with their full name, social security number, and date of birth to attend. This information will be used to conduct screening checks of visitors accessing Department of Homeland Security (DHS) facilities. Due to space constraints, the meeting is limited to 75 people, including STSAC members and staff. Public attendees will be admitted on a first to register basis. Attendees will be required to present a government-issued photo identification to verify identity at the time of entry.

In addition, members of the public must make advance arrangements, as stated below, to present oral or written statements specifically addressing issues pertaining to the items listed in the Meeting Agenda section below. The public comment period will begin at approximately 12 p.m., depending on the meeting progress. Speakers are requested to limit their comments to three minutes. Contact the person listed in the FOR FURTHER INFORMATION CONTACT section above, no later than June 30, 2019, to obtain instructions for registering to attend the meeting and/or to present oral or written statements addressing issues pertaining to the items listed in the Meeting Agenda section below. Anyone in need of assistance or a reasonable accommodation for the meeting should contact the person listed in the FOR FURTHER INFORMATION CONTACT section.

Meeting Agenda

The Committee will meet to discuss items listed in the agenda below:

• Opening Statements

• Unclassified Surface Transportation Intelligence Briefing

• TSA Organizational Structure

• Surface Transportation Rulemaking

• Organization of STSAC

• Public Comments

• Closing Statements

• Adjournment

Dated: June 10, 2019.
Eddie D. Mayenschein,
Assistant Administrator, Policy, Plans, and Engagement (PPE).

[FR Doc. 2019-12579 Filed 6-13-19; 8:45 am]

BILLING CODE 9110-05-P